SECURITIES AND EXCHANGE COMMISSION

[File No. 500-1]

OldWeb sites.com, Inc., RPHL Acquisition Corp. (a/k/a Rockport Healthcare Group, Inc.), The Brainy Brands Company, Inc., TheraBiogen, Inc., U.S. Helicopter Corporation, and Vicor Technologies, Inc.; Order of Suspension of Trading

January 22, 2016.

It appears to the Securities and Exchange Commission (“Commission”) that there is a lack of current and accurate information concerning the securities of OldWeb sites.com, Inc. (“OLDW ¹”) (CIK No. 1391570), an expired Utah corporation located in Salt Lake City, Utah with a class of securities registered with the Commission pursuant to Exchange Act Section 12(g) because it is delinquent in its periodic filings with the Commission, having not filed any periodic reports since it filed a Form 10-Q for the period ended September 30, 2011. On February 19, 2015, the Commission's Division of Corporation Finance (“Corporation Finance”) sent a delinquency letter to OLDW requesting compliance with its periodic filing requirements but OLDW did not receive the delinquency letter due to its failure to maintain a valid address on file with the Commission as required by Commission rules (Rule 301 of Regulation S-T, 17 CFR 232.301 and Section 5.4 of EDGAR Filer Manual). As of January 13, 2016, the common shares of OLDW were quoted on OTC Link operated by OTC Markets Group Inc. (formerly “Pink Sheets”) (“OTC Link”), had four market makers, and were eligible for the “piggyback” exception of Exchange Act Rule 15c2-11(f)(3).

¹ The short form of each issuer's name is also its stock symbol.

It appears to the Commission that there is a lack of current and accurate information concerning the securities of RPHL Acquisition Corp. (a/k/a Rockport Healthcare Group, Inc.) (“RPHL”) (CIK No. 919606), a void Delaware corporation located in Houston, Texas with a class of securities registered with the Commission pursuant to Exchange Act Section 12(g) because it is delinquent in its periodic filings with the Commission, having not filed any periodic reports since it filed a Form 10-KSB for the period ended March 31, 2008. On April 22, 2015, Corporation Finance sent a delinquency letter to RPHL requesting compliance with its periodic filing requirements but RPHL did not receive the delinquency letter due to its failure to maintain a valid address on file with the Commission as required by Commission rules (Rule 301 of Regulation S-T, 17 CFR 232.301 and Section 5.4 of EDGAR Filer Manual). As of January 13, 2016, the common stock of RPHL was quoted on OTC Link, had five market makers, and was eligible for the “piggyback” exception of Exchange Act Rule 15c2-11(f)(3).

It appears to the Commission that there is a lack of current and accurate information concerning the securities of The Brainy Brands Company, Inc. (“TBBC”) (CIK No. 1478838), a forfeited Delaware corporation located in Suwanee, Georgia with a class of securities registered with the Commission pursuant to Exchange Act Section 12(g) because it is delinquent in its periodic filings with the Commission, having not filed any periodic reports since it filed a Form 10-Q for the period ended September 30, 2011. On February 19, 2015, Corporation Finance sent a delinquency letter to TBBC requesting compliance with its periodic filing requirements but TBBC did not receive the delinquency letter due to its failure to maintain a valid address on file with the Commission as required by Commission rules (Rule 301 of Regulation S-T, 17 CFR 232.301 and Section 5.4 of EDGAR Filer Manual). As of January 13, 2016, the common stock of TBBC was quoted on OTC Link, had five market makers, and was eligible for the “piggyback” exception of Exchange Act Rule 15c2-11(f)(3).

It appears to the Commission that there is a lack of current and accurate information concerning the securities of TheraBiogen, Inc. (“TRAB”) (CIK No. 1405286), a revoked Nevada corporation located in Manalapan, New Jersey with a class of securities registered with the Commission pursuant to Exchange Act Section 12(g) because it is delinquent in its periodic filings with the Commission, having not filed any periodic reports since it filed a Form 10-Q for the period ended May 31, 2012. On April 28, 2015, Corporation Finance sent a delinquency letter to TRAB requesting compliance with its periodic filing requirements but TRAB did not receive the delinquency letter due to its failure to maintain a valid address on file with the Commission as required by Commission rules (Rule 301 of Regulation S-T, 17 CFR 232.301 and Section 5.4 of EDGAR Filer Manual). As of January 13, 2016, the common stock of TRAB was quoted on OTC Link, had seven market makers, and was eligible for the “piggyback” exception of Exchange Act Rule 15c2-11(f)(3).

It appears to the Commission that there is a lack of current and accurate information concerning the securities of U.S. Helicopter Corporation (“USHP”) (CIK No. 1309140), a void Delaware corporation located in New York, New York with a class of securities registered with the Commission pursuant to Exchange Act Section 12(g) because it is delinquent in its periodic filings with the Commission, having not filed any periodic reports since it filed a Form 10-Q for the period ended September 30, 2008. On February 19, 2015, Corporation Finance sent a delinquency letter to USHP requesting compliance with its periodic filing requirements but USHP did not receive the delinquency letter due to its failure to maintain a valid address on file with the Commission as required by Commission rules (Rule 301 of Regulation S-T, 17 CFR 232.301 and Section 5.4 of EDGAR Filer Manual). As of January 13, 2016, the common stock of USHP was quoted on OTC Link, had five market makers, and was eligible for the “piggyback” exception of Exchange Act Rule 15c2-11(f)(3).

It appears to the Commission that there is a lack of current and accurate information concerning the securities of Vicor Technologies, Inc. (“VCRTQ”) (CIK No. 1335104), a void Delaware corporation located in Boca Raton, Florida with a class of securities registered with the Commission pursuant to Exchange Act Section 12(g) because it is delinquent in its periodic filings with the Commission, having not filed any periodic reports since it filed a Form 10-Q for the period ended September 30, 2011. On February 19, 2015, Corporation Finance sent a delinquency letter to VCRTQ requesting compliance with its periodic filing requirements but VCRTQ did not receive the delinquency letter due to its failure to maintain a valid address on file with the Commission as required by Commission rules (Rule 301 of Regulation S-T, 17 CFR Section 232.301 and Section 5.4 of EDGAR Filer Manual). As of January 13, 2016, the common stock of VCRTQ was quoted on OTC Link, had seven market makers, and was eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EST on January 22, 2016, through 11:59 p.m. EST on February 4, 2016.

By the Commission.
Jill M. Peterson,
Assistant Secretary.

[FR Doc. 2016-01613 Filed 1-22-16; 11:15 am]

BILLING CODE 8011-01-P